NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection: “Nuclear Material Events Database (NMED)” for the Collection of Event Report, Response, Analyses, and Follow-up Data on Events Involving the Use of Atomic Energy Act (AEA) Radioactive Byproduct Material.

3. The form number if applicable: N/A.

4. How often the collection is required: Agreement States are requested to provide copies of licensee material event reports electronically or by hard copy to NRC on a monthly basis or within 30 days of receipt from their licensee. In addition, Agreement States are requested to report events that may pose a significant health and safety hazard to the NRC Headquarters Operations Officer within the next working day of notification by an Agreement State licensee.

5. Who will be required or asked to report: Current Agreement States and any State receiving Agreement State status in the future.

6. An estimate of the number of responses: 741.

7. The estimated number of annual respondents: 34.

8. An estimate of the total number of hours needed annually to complete the requirement or request: 756 hours, an average of approximately 1.0 hour per response for 711 events and 1.5 additional hours for 30 significant events, for all existing Agreement State reporting. Any new Agreement State would add approximately 21 event reports (including follow-up reports) per year or 22.5 burden hours.

9. An indication of whether Section 3507(d), Pub. L. 104-13 applies:Not applicable.

10. Abstract: NRC regulations require NRC licensees to report incidents and events involving the use, transportation and security of radioactive byproduct material, and source material, such as those involving radiation overexposures, leaking or contaminated sealed source(s), release of excessive contamination of radioactive material, lost or stolen radioactive material, equipment failures, abandoned well logging sources and medical events. Agreement State licenses are also required to report these events to their individual Agreement State regulatory authorities under compatible Agreement State regulations. NRC is requesting that the Agreement States provide information to NRC on the initial notification, response actions, and follow-up investigations on events involving the use (including suspected theft or terrorist activities) of nuclear materials regulated pursuant to the Atomic Energy Act. The event information should be provided in a uniform electronic format, for assessment and identification of any facilities/site specific or generic safety concerns that could have the potential to impact public health and safety. The identification and review of safety concerns may result in lessons learned, and may also identify generic issues for further study which could result in proposals for changes or revisions to technical or regulatory designs, processes, standards, guidance or requirements.

Comments and questions should be directed to the OMB reviewer listed below by September 6, 2006. Comments received after this date will be considered if it is practical to do so, but assurance of consideration cannot be given to comments received after this date.

John A. Asalone, Office of Information and Regulatory Affairs (3150-0178), NEOB-10202, Office of Management and Budget, Washington, DC 20503.

Comments can also be e-mailed to John_A._Asalone@omb.eop.gov or submitted by telephone at (202) 395-4650.

The NRC Clearance Officer is Brenda Jo Shelton, 301-415-7233.

Dated at Rockville, Maryland, this 1st day of August 2006.
For the Nuclear Regulatory Commission.
Brenda Jo Shelton,
NRC Clearance Officer, Office of Information Services.

[FR Doc. E6-12723 Filed 8-4-06; 8:45 am]

BILLING CODE 7590-01-P